INTERNATIONAL TRADE COMMISSION

[Investigation No. 731-TA-891 (Third Review)]

Foundry Coke From China

Determination

On the basis of the record ¹ developed in the subject five-year review, the United States International Trade Commission (“Commission”) determines, pursuant to the Tariff Act of 1930 (“the Act”), that revocation of the antidumping duty order on foundry coke from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on May 1, 2017 (82 FR 20381) and determined on August 4, 2017 that it would conduct a full review (82 FR 41053, August 29, 2017). Notice of the scheduling of the Commission's review and of a public hearing to be held in connection therewith was given by posting copies of the notice in the Office of the Secretary, U.S. International Trade Commission, Washington, DC, and by publishing the notice in the Federal Register on October 26, 2017 (82 FR 49660). The hearing was cancelled on February 20, 2018 at the request of the domestic interested parties (83 FR 39, February 27, 2018).

The Commission made this determination pursuant to section 751(c) of the Act (19 U.S.C. 1675(c)). It completed and filed its determination in this review on April 18, 2018. The views of the Commission are contained in USITC Publication 4774 (April 2018), entitled Foundry Coke from China: Investigation No. 731-TA-891 (Third Review).

By order of the Commission.
Issued: April 18, 2018.
Lisa Barton,
Secretary to the Commission.

[FR Doc. 2018-08455 Filed 4-23-18; 8:45 am]

BILLING CODE 7020-02-P